ENVIRONMENTAL PROTECTION AGENCY

[OPPTS-82057; FRL-6826-5]

2002 Reporting Notice; Partial Updating of Inventory Data Base; Production and Site Reports

AGENCY: Environmental Protection Agency (EPA).

ACTION: Notice.

SUMMARY: This document announces the 2002 reporting period for the Toxic Substances Control Act (TSCA) Inventory Update Rule (IUR). The IUR requires manufacturers and importers of certain chemical substances included on the TSCA Chemical Substance Inventory to report current data on the production volume, plant site, and site-limited status of the substances. The 2002 reporting period is from August 26, 2002 to December 23, 2002. While chemical identifiers, such as Premanufacturing Notice (PMN) numbers, original inventory form numbers, and bona fide numbers are permitted under 40 CFR part 710, to facilitate the compilation and timely release of the 2002 IUR data base, the Agency strongly encourages industry to report their chemicals by the Chemical Abstracts Service (CAS) or accession number only.

DATES: This document is effective April 16, 2002. The 2002 reporting period is from August 26, 2002 to December 23, 2002.

FOR FURTHER INFORMATION CONTACT: For general information contact: Barbara Cunningham, Acting Director, Environmental Assistance Division (7408M), Office of Pollution Prevention and Toxics, Environmental Protection Agency, 1200 Pennsylvania Ave., NW., Washington, DC 20460; telephone number: (202) 554-1404; e-mail address: TSCA-Hotline@epa.gov.

For technical information contact: Linda Werrell Gerber, Information Management Division (7404M), Office of Pollution Prevention and Toxics, Environmental Protection Agency, 1200 Pennsylvania Ave., NW., Washington, DC 20460; telephone number: (202) 564-3452; e-mail address: gerber.linda@epa.gov.

SUPPLEMENTARY INFORMATION:

I. General Information

A. Does this Action Apply to Me?

You may be potentially affected by this action if you manufactured or imported organic chemicals or other chemicals subject to proposed or final rules or orders during your company's latest fiscal year prior to August 26, 2002. Potentially affected categories and entities may include, but are not limited to:

Categories | Examples of potentially affected entities
Chemical manufacturers | Manufacturers of chemical substances subject to the rule
Chemical importers | Importers of chemical substances. Under the regulations, importers include such persons as brokers, agents, importers of record, consignees, and owners.

This listing is not intended to be exhaustive, but rather provides a guide for readers regarding entities likely to be affected by this action. Other types of entities not listed in the table in this unit could also be affected. To determine whether you or your business is affected by this action, you should carefully examine the applicability provisions beginning at 40 CFR 710.2. If you have any questions regarding the applicability of this action to a particular entity, consult the technical person listed under FOR FURTHER INFORMATION CONTACT.

B. How Can I Get Additional Information, Including Copies of this Document or Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Background

A. What Action is the Agency Taking?

The Agency is announcing the 2002 reporting period for the Toxic Substances Control Act (TSCA) Inventory Update Rule (IUR). The IUR requires manufacturers and importers of certain chemical substances included on the TSCA Chemical Substance Inventory to report current data on the production volume, plant site, and site-limited status of the substances. The 2002 reporting period is from August 26, 2002 to December 23, 2002.

The Agency received comments that several of the 1998 submitters were concerned about the processing time of submissions received. Analysis of the 1998 reporting cycle indicated that significant Agency resources were expended identifying and correcting misidentified CAS and/or accession numbers as well as identifying CAS registry numbers or accession numbers for chemicals reported using other identifiers i.e., PMN, TME, bona fide, original inventory form numbers. Therefore, in order to facilitate timely processing of 2002 submissions, the Agency strongly recommends that submitters report chemical identification as either CAS or accession number. If a submitter experiences difficulty in the identification of the appropriate CAS or accession number, the technical contact person identified under FOR FURTHER INFORMATION CONTACT can provide assistance.

B. What is the Agency's Authority for Taking this Action?

Under the authority of section 8(a) of TSCA, 15 U.S.C. 2607(a), EPA promulgated a reporting rule at 40 CFR part 710, subpart B, referred to as the IUR (51 FR 21438, June 12, 1986). The IUR requires manufacturers and importers of certain chemical substances included on the TSCA Chemical Substance Inventory to report current data on the production volume, plant site, and site-limited status of the substances. After the initial reporting during 1986, recurring reporting was required every 4 years. A second reporting cycle took place in 1990, a third in 1994, and a fourth in 1998. The fifth reporting period is from August 26, 2002 to December 23, 2002. Persons subject to the IUR must submit the required information during this period.

C. How Do I Know What Information is Currently in the TSCA Chemical Substance Inventory?

The Agency publishes, via the National Technical Information Service (NTIS), an updated public Inventory twice a year, normally around January/February and July/August each year. One will soon be published (in a variety of magnetic media products (CD-ROM, diskette, and magnetic tape)) in February, covering all information available to the Agency by December 31, 2001. Specifically, each of the chemical substances included in these products is identified by a Chemical Abstracts (CA) Index or Preferred Name, the corresponding CAS registry number, molecular formula, and if applicable, the chemical definition and appropriate EPA special flags as found in the printed Inventory. The substances are sequenced in ascending order of the corresponding CAS registry numbers. The products do not include chemical synonyms that are copyrighted by the CAS. Furthermore, generic names or EPA accession numbers for substances with confidential chemical identities are not included on the public Inventory.

For confidential substances, the Agency also publishes a tape linking the PMN case number to the corresponding accession number. The publication of the accession number will facilitate IUR reporting. This tape is also available at the NTIS.

The magnetic media products include over 66,000 records and require 12 megabytes of disk space for installation. The products are available for sale from: National Technical Information Service (NTIS), U.S. Department of Commerce, Springfield, VA 22161; telephone: (703) 605-6000, toll free: 1-800-553-NTIS; Internet address: www.ntis.gov/fcpc. The NTIS order number for the CD-ROM is SUB-5423INQ. The NTIS order number for the diskettes is SUB-5435INQ. The NTIS order number for the tapes is PB98-500556 INQ.

D. How Do I Know If I Have to Report?

You have to report if you manufacture or import IUR reportable chemical substances included on the TSCA Chemical Substance Inventory in excess of 10,000 pounds at a single facility during your company's last fiscal year ending August 26, 2002. EPA has developed a software regulatory advisory tool that provides a detailed series of questions to assist manufacturers and importers in reporting under the 2002 IUR, including relevant parts of the CFR cited in the rule. For further and more specific information, please review the IUR reporting regulations beginning at 40 CFR 710.2.

E. How Do I Get a 2002 Reporting Package?

EPA will automatically mail out a reporting package to the company headquarters of those companies that reported in 1998. This package will include information describing the 2002 reporting period, Agency procedures and sources of information as well as instructions on how to download the 2002 IUR Instruction Manual and the Reporting Database from the Agency web site. In an effort to streamline the reporting process, reduce administrative costs, and accelerate processing time, the Agency is relying more heavily on electronic methods of information dissemination and collection. If you do not have access to the web, traditional hard copies of the reporting package will be made available through the TSCA Hotline. Failure to receive a reporting package from EPA does not obviate or otherwise affect the requirement to submit a timely report.

If you did not report in 1998, but need to report in 2002, you may obtain the reporting package from the Agency website or the TSCA Hotline. Additional reporting forms, electronic or printed, will also be available from the TSCA Hotline.

F. How Do I Submit My Report?

The regulation at 40 CFR 710.39 requires submitters to report using EPA's Form U. Submitters may report using the printed or the electronic 2002 Form U, although the electronic version is preferred.

1. Electronic reporting. As stated above, instructions for downloading the necessary information are included in the reporting package that will be distributed to the 1998 IUR submitters. EPA is encouraging submitters to use the electronic Form U for 2002 reporting. This new version of the software will allow you to download the reporting software, save files, and submit a completed version of your forms on disk to the Agency. Everything you will need to complete these forms will be available on-line.

Section 710.32(b) provides that magnetic media submitted in response to the IUR must meet EPA specifications, as described in the “Instructions for Reporting for the Partial Updating of the TSCA Chemical Inventory Data Base” available from the TSCA Hotline. Directions for use of the reporting data base are provided in the “Instructions for Reporting for the Partial Updating of the TSCA Chemical Inventory Data Base” available from the TSCA Hotline at the address listed above. The instruction manual, the reporting form (Form U) in a PDF format, and the reporting data base will be made available by April 2002, on the Agency website or the TSCA hotline.

2. Paper reporting. Printed copies of the Form U will be available upon request from the TSCA Hotline, and will not be distributed as a part of the reporting package. After April, the printed form can be requested from the TSCA Hotline at the address listed above.

G. Where Do I Send My 2002 Report?

Please mail your completed form or magnetic media to the OPPT Document Control Officer, Mail Code 7407M, ATTN: Inventory Update Rule, Office of Pollution Prevention and Toxics, U.S. Environmental Protection Agency, 1200 Pennsylvania Ave., Washington, DC 20460. At this time, the Agency is not able to accept these reports electronically, except through the submission of a disk. All submissions should be mailed to this address.

H. What Happens If I Fail to Report During the 2002 Reporting Period?

If you fail to report as required, the Agency can take enforcement action against you. Section 16 of the Act provides that any person who violates a provision of TSCA shall be liable to the United States for a civil penalty not to exceed $25,000 for each such violation.

I. Does this Action Involve Any New Information Collection Activities, Such as Reporting, Recordkeeping, or Notification?

No. The information collection requirements contained in 40 CFR part 710, subpart B, have already been approved by the Office of Management and Budget (OMB) pursuant to the Paperwork Reduction Act (PRA), 44 U.S.C. 3501 et seq., under OMB control number 2070-0070 (EPA ICR No. 1011). The annual public burden for this collection of information is estimated at 11.5 hours per response. Under the PRA, “burden” means the total time, effort or financial resources expended by persons to generate, maintain, retain, or disclose information to or for a Federal agency. For this collection, it includes the time needed to review instructions, search existing data sources, gather and maintain the data needed, and complete and review the collection of information. An agency may not conduct or sponsor and a person is not required to respond to, a collection of information unless it displays a currently valid OMB number. The OMB control number for this information collection appears above. In addition, the OMB control numbers for EPA's regulations, after initial display in the final rule, are listed in 40 CFR part 9 and appear on any form that is required to be used.

Send any comments on the accuracy of the provided burden estimates, and any suggested methods for minimizing respondent burden, including through the use of automated collection techniques to the Director, Regulatory Information Division, Office of Policy, Economics and Innovation, U.S. Environmental Protection Agency, Mail Code 1806A, 1200 Pennsylvania Ave., Washington, DC 20460. Include the OMB control number in any correspondence, but do not submit the requested information to this address. The requested information should be submitted in accordance with the instructions accompanying the form, or as specified in the corresponding regulation.

J. What are the Agency's Plans Regarding the Revision of the IUR Requirements (i.e., the IUR amendments)?

Although not promulgated at this time, the Agency is pursuing amending the IUR through formal revision. The technical contact person for the IUR amendments is Susan Sharkey, who can be contacted by phone at (202) 564-8789 or by e-mail at sharkey.susan@epa.gov.

List of Subjects

Environmental protection, Chemicals, Hazardous substances, Reporting and recordkeeping requirements.

Dated: April 8, 2002.
Stephen L. Johnson,
Assistant Administrator for Prevention, Pesticides and Toxic Substances.

[FR Doc. 02-9222 Filed 4-15-02; 8:45 am]

BILLING CODE 6560-50-S